DEPARTMENT OF LABOR

Employment and Training Administration

[TA-W-41,658]

TNS Mills, Inc., Gaffney Weaving Division, Now Known as Wellstone Mills, LLC, Gaffney, South Carolina; Amended Certification Regarding Eligibility To Apply for Worker Adjustment Assistance

In accordance with Section 223 of the Trade Act of 1974 (19 U.S.C. 2273) the Department of Labor issued a Certification of Eligibility to Apply for Worker Adjustment Assistance on October 10, 2002, applicable to workers of TNS Mills, Inc., Gaffney Weaving Division, Gaffney, South Carolina. The notice was published in the Federal Register on November 5, 2002 (67 FR 67422).

At the request of the petitioners, the Department reviewed the certification for workers of the subject firm. The workers are engaged in the production of greige goods and yarn.

New information shows that Wellstone Mills, LLC purchased TNS Mills, Inc., Gaffney Weaving Division, Gaffney, South Carolina in March 2003 and is now known as Wellstone Mills, LLC. Workers separated from employment at the subject firm had their wages reported under a separate unemployment insurance (UI) tax account for Wellstone Mills, LLC.

Accordingly, the Department is amending the certification to properly reflect this matter.

The intent of the Department's certification is to include all workers of TNS Mills, Inc., Gaffney Weaving Division, Gaffney, South Carolina who were adversely affected by increased imports.

The amended notice applicable to TA-W-41,658 is hereby issued as follows:

All workers of TNS Mills, Inc., Gaffney Weaving Division, now known as Wellstone Mills, LLC, Gaffney, South Carolina, who became totally or partially separated from employment on or after May 10, 2001, through October 10, 2004, are eligible to apply for adjustment assistance under Section 223 of the Trade Act of 1974.

Signed at Washington, DC, this 25th day of July, 2003.
Richard Church,
Certifying Officer, Division of Trade Adjustment Assistance.

[FR Doc. 03-20106 Filed 8-6-03; 8:45 am]

BILLING CODE 4510-30-P